DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) Drug Testing Advisory Board to be held in September 2003.

A portion of the meeting will be open and will include a Department of Health and Human Services drug testing program update, and a Department of Transportation drug testing program update. If anyone needs special accommodations for persons with disabilities, please notify the Contact listed below.

The meeting will include an evaluation of sensitive National Laboratory Certification Program (NLCP) internal operating procedures and program development issues. Therefore, a portion of the meeting will be closed to the public as determined by the SAMHSA Administrator in accordance with Title 5 U.S.C. 552b(c)(9)(B) and 5 U.S.C. App.2, section 10(d).

A roster of the board members may be obtained from: Mrs. Giselle Hersh, Division of Workplace Programs, 5600 Fishers Lane, Rockwall II, Suite 815, Rockville, MD 20857, 301-443-6014 (voice). The transcript for the open session will be available on the following Web site: http://workplace.samhsa.gov. Additional information for this meeting may be obtained by contacting the individual listed below.

Committee Name: Center for Substance Abuse Prevention Drug Testing Advisory Board.

Meeting Date: September 3, 2003; 8:30 a.m.-4:30 p.m., September 4, 2003; 8:30 a.m.-noon.

Place: Residence Inn by Marriott, 7335 Wisconsin Avenue, Bethesda, Maryland 20814.

Type: Open: September 3, 2003; 8:30 a.m.-9:30 a.m. Closed: September 3, 2003; 9:30 a.m.-4:30 p.m. Closed: September 4, 2003; 8:30 a.m.-noon.

Contact: Donna M. Bush, Ph.D., Executive Secretary; 301-443-6014 (voice) or 301-443-3031 (fax).

Dated: August 1, 2003.
Toian Vaughn,
Committee Management Officer, Substance Abuse and Mental Health Services Administration.

[FR Doc. 03-20202 Filed 8-7-03; 8:45 am]

BILLING CODE 4162-20-P